DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

Time and Date: The meeting will begin at 9:00 a.m. EDT on Tuesday, June 19, 2001, and continue until 5:00 p.m. EDT that day. The meeting will reconvene at 9:00 a.m. EDT on Wednesday, June 20, 2001, and adjourn at approximately 3:00 p.m. EDT on that day. The period from 3:00 p.m. to 5:00 p.m. EDT on June 19 will be reserved for participation and presentation by members of the public.

Place: Both days' sessions will be held in Room N-3437 A, B, and C, Frances Perkins Building, the U.S. Department of Labor, 200 Constitution Avenue, NW., Washington, DC 20210.

Status: The meeting will be open to the public.

Matters to be Considered: The formal agenda will focus on the following topics: (1) Comments from the Department on overall employment and training issues, including WIA implementation; (2) Council work group reports; (3) election of Council Chairperson and Vice-Chairperson; (4) status of the Council report to the Department and Congress; (5) status of the Technical Assistance and Training Initiative; and (6) status of the PY 2001 Partnership Effort.

FOR FURTHER INFORMATION CONTACT: Mr. James C. DeLuca, Chief, Division of Indian and Native American Programs, Office of National Programs, Employment and Training Administration, U.S. Department of Labor, Room N-4641, 200 Constitution Avenue, N.W., Washington, DC 20210.

Telephone: (202) 693-3754 (VOICE) or (202) 326-2577 (TDD) (these are not toll-free numbers).

Signed at Washington, DC, this 31st day of May, 2001.
Shirley M. Smith,
Administrator, Office of Adult Services.

[FR Doc. 01-14505 Filed 6-7-01; 8:45 am]

BILLING CODE 4510-30-P